DEPARTMENT OF HEALTH AND HUMAN SERVICES

Food and Drug Administration

[Docket No. FDA-2013-N-1161]

Agency Information Collection Activities; Submission for Office of Management and Budget Review; Comment Request; Food Safety Survey

AGENCY: Food and Drug Administration, HHS.

ACTION: Notice.

SUMMARY: The Food and Drug Administration (FDA, Agency, or we) is announcing that a proposed collection of information has been submitted to the Office of Management and Budget (OMB) for review and clearance under the Paperwork Reduction Act of 1995.

DATES: Fax written comments on the collection of information by January 8, 2018.

ADDRESSES: To ensure that comments on the information collection are received, OMB recommends that written comments be faxed to the Office of Information and Regulatory Affairs, OMB, Attn: FDA Desk Officer, Fax: 202-395-7285, or emailed to oira_submission@omb.eop.gov. All comments should be identified with the OMB control number 0910-0345. Also include the FDA docket number found in brackets in the heading of this document.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: In compliance with 44 U.S.C. 3507, FDA has submitted the following proposed collection of information to OMB for review and clearance.

Food Safety Survey

OMB Control Number 0910-0345—Extension

Under section 1003(b)(2) of the Federal Food, Drug, and Cosmetic Act (21 U.S.C. 393(b)(2)), we are authorized to conduct research relating to foods and to conduct educational and public information programs relating to the safety of the nation's food supply. The Food Safety Survey measures consumers' knowledge, attitudes, and beliefs about food safety. Previous versions of the survey were collected in 1988, 1993, 1998, 2001, 2006, 2010, and 2016. Food Safety Survey data are used to measure trends in consumer food safety habits including hand and cutting board washing, cooking practices, and use of food thermometers. Data are also used to evaluate educational messages and to inform policymakers about consumer attitudes about technologies such as food irradiation and biotechnology.

The proposed Food Safety Survey will contain many of the same questions and topics as previous Food Safety Surveys to facilitate measuring trends in food safety knowledge, attitudes, and behaviors over time. The proposed survey will also be updated to explore emerging consumer food safety topics and expand understanding of previously asked topics.

The methods for the proposed Food Safety Survey will be largely the same as those used with the previous Food Safety Surveys with the exception of the inclusion of address based sampling (ABS) methods to explore the method as a possible alternative for new survey questions. ABS is sampling from address frames that are usually based, in part, on residential addresses in the U.S. Postal Service Computerized Delivery Sequence File. ABS is a cost effective method of sampling that provides much coverage of U.S. households for in-person, mail, telephone, and multimode surveys (including web-based surveys.) The Food Safety Survey will continue to include cell phones in addition to landlines for the telephone interviews. A nationally representative sample of 4,000 adults will be selected at random to complete the survey. The survey will also include an oversample of Hispanics and Blacks to ensure a minimum of 400 each. Additionally, methods will be employed to test for the presence of response bias. Participation in the survey will be voluntary. Cognitive interviews and a pre-test will be conducted prior to fielding the survey.

In the Federal Register of July 3, 2017 (82 FR 30871), FDA published a 60-day notice requesting public comment on the proposed collection of information. We received two comments. One commenter discussed the importance of food safety, for which FDA agrees, and one commenter provided a comment which was unrelated to the information collection. After evaluating these comments, FDA will not revise the information collection.

FDA estimates the burden of this collection of information as follows:

Table 1—Estimated Annual Reporting Burden ¹
Activity | Number of respondents | Number of responses per respondent | Total annual responses | Average burden per response | Total hours
Cognitive interview screener | 75 | 1 | 75 | 0.083 (5 minutes) | 6
Cognitive interview | 9 | 1 | 9 | 1 | 9
Pretest screener | 45 | 1 | 45 | 0.0167 (1 minute) | 1
Pretest | 18 | 1 | 18 | 0.33 (20 minutes) | 6
Survey screener | 10,000 | 1 | 10,000 | 0.0167 (1 minute) | 167
Survey | 4,000 | 1 | 4,000 | 0.33 (20 minutes) | 1,320
Non-response survey screener | 125 | 1 | 125 | 0.0167 (1 minute) | 2
Non-response survey | 50 | 1 | 50 | 0.167 (10 minutes) | 8
Total |  |  |  |  | 1,519
¹ There are no capital costs or operating and maintenance costs associated with this collection of information.

FDA's burden estimate is based on the Agency's prior experience with the Food Safety Survey. FDA estimates that the burden hours for this information collection will remain the same since the last OMB approval.

Dated: December 1, 2017.
Leslie Kux,
Associate Commissioner for Policy.

[FR Doc. 2017-26356 Filed 12-6-17; 8:45 am]

BILLING CODE 4164-01-P